DEPARTMENT OF COMMERCE

National Institute of Standards and Technology

Announcing a Meeting of the Information Security and Privacy Advisory Board

AGENCY: National Institute of Standards and Technology, Department of Commerce.

ACTION: Notice.

SUMMARY: The Information Security and Privacy Advisory Board (ISPAB) will meet Wednesday, July 13, 2011, from 8 a.m. until 5 p.m., Thursday, July 14, 2011, from 8 a.m. until 5 p.m., and Friday, July 15, 2011 from 8 a.m.. until 12:30 p.m. All sessions will be open to the public.

DATES: The meeting will be held on Wednesday, July 13, 2011, from 8 a.m. until 5 p.m., Thursday, July 14, 2011, from 8 a.m. until 5 p.m., and Friday, July 15, 2011 from 8 a.m. until 12:30 p.m.

ADDRESSES: The meeting will take place in the Homewood Suites by Hilton DC, 1475 Massachusetts Avenue, NW., Washington, DC 20005.

FOR FURTHER INFORMATION CONTACT: Ms. Annie Sokol, Information Technology Laboratory, National Institute of Standards and Technology, 100 Bureau Drive, Stop 8930, Gaithersburg, MD 20899-8930, telephone: (301) 975-2006.

SUPPLEMENTARY INFORMATION: Pursuant to the Federal Advisory Committee Act, 5 U.S.C. App., notice is hereby given that the Information Security and Privacy Advisory Board (ISPAB) will meet Wednesday, July 13, 2011, from 8 a.m. until 5 p.m., Thursday, July 14, 2011, from 8 a.m. until 5 p.m., and Friday, July 15, 2011 from 8 a.m. until 12:30 p.m. All sessions will be open to the public. The ISPAB was established by the Computer Security Act of 1987 (Pub. L. 100-235) and amended by the Federal Information Security Management Act of 2002 (Pub. L. 107-347) to advise the Secretary of Commerce and the Director of NIST on security and privacy issues pertaining to federal computer systems. Details regarding the ISPAB's activities are available at http://csrc.nist.gov/groups/SMA/ispab/index.html

The agenda is expected to include the following items:

—Cloud Security and Privacy Panel discussion on addressing security and privacy for different types of cloud computing,

—Presentation from National Strategy for Trusted Identities in Cyberspace (NSTIC) to present the status of the implementation plan,

—Presentation on Doctrine of Cybersecurity relating to computer security research,

—Presentation on from National Protection and Programs Directorate, DHS, on the white paper, “Enabling Distributed Security in Cyberspace”,

—Medical Device and relating security concerns,

—Presentation on National Initiative for Cybersecurity Education (NICE) and Cybersecurity Awareness,

—Presentations from Mississippi State Research on Wounded Warrior and Supervisory Control and Data Acquisition (SCADA),

—Panel presentation/discussion on Health and Human Services (HHS) Infrastructure and Nationwide Health Information Network (NHIN),

—Presentation on the Status of Cyber Legislation,

—Panel discussion on Controlled Unclassified Information and National Archives and Records Administration (NARA),

—Discussion on International Standards and Cybersecurity,

—Panel discussion of Product Assurance Testing and Methods (National Information Assurance Partnership (NIAP) Common Criteria Testing (CCTL),

—Presentation on Security and Privacy Tiger Team for the HIPAA,

—Presentation on a study on Economic Incentives and Cyber,

—Presentation on e-Service Strategy,

—Panel discussion on Industrial Control System Security, and

—Update of NIST Computer Security Division.

Note that agenda items may change without notice because of possible unexpected schedule conflicts of presenters. The final agenda will be posted on the Web site indicated above.

Public Participation: The ISPAB agenda will include a period of time, not to exceed thirty minutes, for oral comments from the public (Friday, July 15, 2011, at 8:30-9 a.m.). Each speaker will be limited to five minutes. Members of the public who are interested in speaking are asked to contact Ms. Annie Sokol at the telephone number indicated above.

In addition, written statements are invited and may be submitted to the ISPAB at any time. Written statements should be directed to the ISPAB Secretariat, Information Technology Laboratory, 100 Bureau Drive, Stop 8930, National Institute of Standards and Technology, Gaithersburg, MD 20899-8930. Approximately 15 seats will be available for the public and media.

Dated: June 8, 2011.
Charles H. Romine,
Acting Associate Director for Laboratory Programs.

[FR Doc. 2011-14704 Filed 6-13-11; 8:45 am]

BILLING CODE 3510-13-P